DEPARTMENT OF EDUCATION

Applications for New Awards; Advanced Placement (AP) Test Fee Program; Correction

AGENCY: Office of Elementary and Secondary Education, Department of Education.

ACTION: Notice; correction.

Catalog of Federal Domestic Assistance (CFDA) Number: 84.330B.

SUMMARY: On March 24, 2014, the Office of Elementary and Secondary Education of the U.S. Department of Education (ED) published in the Federal Register (79 FR 15975) a notice inviting applications for new awards for fiscal year (FY) 2014 for the AP Test Fee program that included a summary of exam costs with an incorrect amount for the exams administered by the International Baccalaureate Organization. This notice corrects the maximum amount the Department would pay an SEA towards the costs of the exams administered by the International Baccalaureate Organization.

DATES: Effective April 15, 2014.

SUPPLEMENTARY INFORMATION:

Correction

Section V. Application Review Information, Part 1, Review and Selection Process, second paragraph, of the NIA contained inaccurate information regarding the maximum amount of grant funds that may be used to pay the cost of exams administered by the International Baccalaureate Organization. The correct maximum amount of program funds that an SEA may use to cover a portion of the cost of each approved advanced placement exam taken by low-income students in school years 2013-14 and 2014-15 follows: (a) Up to $37 for each Advanced Placement test administered by the College Board; (b) up to $90 for each Diploma Programme test administered by the International Baccalaureate Organization; and (c) up to $39 for each Advanced Subsidiary test and up to $68 for each Advanced test administered by Cambridge International Examinations.

Program Authority: 20 U.S.C. 6534.

FOR FURTHER INFORMATION CONTACT: Francisco Ramirez, U.S. Department of Education, 400 Maryland Avenue SW., Room 3E224, Washington, DC 20202-6200. Telephone: (202) 260-1541 or by email: francisco.ramirez@ed.gov.

If you use a TDD or a TTY, call the FRS, toll free, at 1-800-877-8339.

Accessible Format: Individuals with disabilities can obtain this document and a copy of the application package in an accessible format (e.g., braille, large print, audiotape, or compact disc) on request to the program contact person listed under FOR FURTHER INFORMATION CONTACT of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 10, 2014.
Deborah Delisle,
Assistant Secretary for Elementary and Secondary Education.

[FR Doc. 2014-08537 Filed 4-14-14; 8:45 am]

BILLING CODE 4000-01-P